DEPARTMENT OF COMMERCE

National Oceanic and Atmospheric Administration

Proposed Information Collection; Comment Request; Pacific Coast Groundfish, Rationalization Sociocultural Study

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 6, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Suzanne Russell (206) 860-3274, suzanne.russell@noaa.gov.

SUPPLEMENTARY INFORMATION:

I. Abstract

Historically, changes in fisheries management regulations have been shown to result in impacts to individuals within the fishery. An understanding of social impacts in fisheries—achieved through the collection of data on fishing communities, as well as on individuals who fish—is a requirement under several federal laws. Laws such as the National Environmental Protection Act and the Magnuson Stevens Fishery Conservation Act (as amended 2007) describe such requirements. The collection of this data not only helps to inform legal requirements for the existing management actions, but will inform future management actions requiring equivalent information.

Fisheries rationalization programs have an impact on those individuals participating in the affected fishery. The Pacific Fisheries Management Council is on track to implement a new rationalization program for the Pacific Coast Groundfish limited entry trawl fishery in January 2011. This research aims to study the individuals in the affected fishery both prior to and after the implementation of the rationalization program. The data collected will provide a baseline description of the industry as well as allow for analysis of changes the rationalization program may create for individuals in the fishery. The measurement of these changes will lead to a greater understanding of the social impacts the management measure may have on the individuals in the fishery. To achieve these goals it is critical to collect the necessary data prior to the implementation of the rationalization program for comparison to data collected after the management program has been implemented. This study will be inclusive of both a Phase 1 pre-implementation data collection effort, as well as a Phase 2, post-implementation data collection effort to achieve the stated objectives.

II. Method of Collection

Literature reviews, secondary sources including Internet sources, United States Census data, key informants, focus groups, paper surveys, electronic surveys, and in-person interviews will be utilized in combination to obtain the greatest breadth of information as possible.

III. Data

OMB Control Number: None.

Form Number: None.

Type of Review: Regular submission.

Affected Public: Individuals or households; business or other for-profit organizations; not-for-profit institutions.

Estimated Number of Respondents: 800.

Estimated Time per Response: 1 hour 30 minutes.

Estimated Total Annual Burden Hours: 1,200.

Estimated Total Annual Cost to Public: $1,000 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 2, 2010.
Gwellnar Banks,
Management Analyst, Office of the Chief Information Officer.

[FR Doc. 2010-2504 Filed 2-4-10; 8:45 am]

BILLING CODE 3510-22-P